DEPARTMENT OF COMMERCE

National Oceanic and Atmospheric Administration

50 CFR Part 648

[Docket No. 130919816-4205-02]

RIN 0648-XD570

Fisheries of the Northeastern United States; Atlantic Herring Fishery; 2014 Sub-Annual Catch Limit (ACL) Harvested for Management Area 1A

AGENCY: National Marine Fisheries Service (NMFS), National Oceanic and Atmospheric Administration (NOAA), Commerce.

ACTION: Temporary rule; directed fishery closure.

SUMMARY: NMFS is closing the directed herring fishery in management Area 1A, because it projects that 92 percent of the 2014 catch limit for that area will have been caught by the effective date of this action. This action is necessary to comply with the regulations implementing the Atlantic Herring Fishery Management Plan and is intended to prevent excess harvest in Area 1A.

DATES: Effective 0001 hr local time, October 26, 2014, through December 31, 2014.

FOR FURTHER INFORMATION CONTACT: Carly Bari, Fishery Management Specialist, (978) 281-9224.

SUPPLEMENTARY INFORMATION: The reader can find regulations governing the herring fishery at 50 CFR part 648. The regulations require annual specification of the overfishing limit, acceptable biological catch, annual catch limit (ACL), optimum yield, domestic harvest and processing, U.S. at-sea processing, border transfer, and sub-ACLs for each management area. The 2014 Domestic Annual Harvest is 107,800 metric tons (mt); the 2014 sub-ACL allocated to Area 1A is 31,200 mt (but was reduced to 12,775 mt to account for an overage in 2011), and 936 mt of the Area 1A sub-ACL is set aside for research (78 FR 61828, October 4, 2013). The 2014 Area 3 sub-ACL was increased to 33,967 mt to account for a 3,366 mt underharvest in 2012 (79 FR 15253, March 19, 2014).

The regulations at § 648.201 require that when the NMFS Administrator of the Greater Atlantic Region (Regional Administrator) projects herring catch will reach 92 percent of the sub-ACL allocated in any of the four management areas designated in the Atlantic Herring Fishery Management Plan (FMP), NMFS will prohibit herring vessel permit holders from fishing for, catching, possessing, transferring, or landing more than 2,000 lb (907.2 kg) of herring per trip or calendar day in or from the specified management area for the remainder of the fishing year. The Regional Administrator monitors the herring fishery catch in each of the management areas based on dealer reports, state data, and other available information. NMFS publishes notification in the Federal Register of the date that the catch is projected to reach 92 percent of the management area sub-ACL and closure of the directed fishery in the management area for the remainder of the fishing year. After the closure, no vessel may offload and/or sell more than 2,000 lb (907.2 kg) of herring from Area 1A unless that vessel entered port before the closure. During the directed fishery closure, vessels may transit Area 1A with more than 2,000 lb (907.2 kg) of herring on board only under the conditions specified below.

The Regional Administrator has determined, based on dealer reports and other available information, that the herring fleet will have caught 92 percent of the total herring sub-ACL allocated to Area 1A (31,249 mt) for 2014 by October 26, 2014. Therefore, effective 0001 hr local time, October 26, 2014, vessel issued a Federal herring permit may not fish for, catch, possess, transfer, or land more than 2,000 lb (907.2 kg) of herring per trip or calendar day, in or from Area 1A through December 31, 2014, except that vessels that have entered port before 0001 hr on October 26, 2014, may offload and sell more than 2,000 lb (907.2 kg) of herring from Area 1A from that trip after the closure. During the directed fishery closure, October 26, 2014, through December 31, 2014, a vessel may transit through Area 1A with more than 2,000 lb (907.2 kg) of herring on board, provided the vessel did not fish for or catch more than 2,000 lb (907.2 kg) of herring in Area 1A and the vessel's gear is not available for immediate use as defined by § 648.2. Effective 0001 hr, October 26, 2014, federally permitted dealers may not receive herring from federally permitted herring vessels that harvest more than 2,000 lb (907.2 kg) of herring from Area 1A through 2400 hr local time, December 31, 2014, unless it is from a trip landed by a vessel that entered port before 0001 hr on October 26, 2014. During the seasonal period January 1, 2015, through May 31, 2015, vessels are prohibited from fishing for herring in or from Area 1A. Beginning on June 1, 2015, the 2015 allocation for Area 1A becomes available.

Classification

This action is required by 50 CFR part 648 and is exempt from review under Executive Order 12866.

NMFS finds good cause pursuant to 5 U.S.C. 553(b)(B) to waive prior notice and the opportunity for public comment because it would be contrary to the public interest and impracticable. This action closes the directed herring fishery for Management Area 1A through December 31, 2014, under current regulations. The regulations at § 648.201(a) require such action to ensure that herring vessels do not exceed the 2014 sub-ACL allocated to Area 1A. The herring fishery opened for the 2014 fishing year on January 1, 2014. Data indicating the herring fleet will have landed at least 92 percent of the 2014 sub-ACL allocated to Area 1A have only recently become available. If implementation of this closure is delayed to solicit prior public comment, the sub-ACL for Area 1A for this fishing year may be exceeded, thereby undermining the conservation objectives of the FMP. If sub-ACLs are exceeded, the excess must also be deducted from a future sub-ACL and would reduce future fishing opportunities. NMFS further finds, pursuant to 5 U.S.C 553(d)(3), good cause to waive the 30-day delayed effectiveness period for the reasons stated above.

Authority: 16 U.S.C. 1801 et seq.

Dated: October 22, 2014.
Emily H. Menashes,
Acting Director, Office of Sustainable Fisheries, National Marine Fisheries Service.

[FR Doc. 2014-25635 Filed 10-23-14; 4:15 pm]

BILLING CODE 3510-22-P